DEPARTMENT OF HOMELAND SECURITY

U.S. Citizenship and Immigration Services

[CIS No. 2656-20; DHS Docket No. USCIS-2019-0022]

RIN 1615-ZB84

Notice Concerning Termination of Eligibility for E-1 and E-2 Nonimmigrant Classification Based on Treaty of Amity With Iran

AGENCY: U.S. Citizenship and Immigration Services, U.S. Department of Homeland Security.

ACTION: Notice concerning termination of eligibility.

SUMMARY: U.S. Citizenship and Immigration Services (USCIS) in the Department of Homeland Security (DHS) is announcing that nationals of Iran and their dependents are no longer eligible to change to or extend their stay in E-1 or E-2 nonimmigrant status on the basis of the 1955 Treaty of Amity, Economic Relations, and Consular Rights between the United States and Iran (the Treaty of Amity) due to the treaty's termination.

DATES: This announcement is made on January 23, 2020, and describes policy that governs adjudications on or after that date.

FOR FURTHER INFORMATION CONTACT: Charles Nimick, Chief, Business and Foreign Workers Division, Office of Policy and Strategy, U.S. Citizenship and Immigration Services, Department of Homeland Security, 20 Massachusetts Ave. NW, Suite 1100, Washington, DC 20529-2120; telephone: (202) 272-8377 (not a toll-free call). Individuals with a hearing or speech impairments may access the telephone numbers above via TTY by calling the toll-free Federal Information Relay Service at 1-877-889-5627 (TTY/TDD).

SUPPLEMENTARY INFORMATION: The Immigration and Nationality Act (INA), as amended, establishes the E nonimmigrant visa classification. Under section 101(a)(15)(E) of the INA, an otherwise admissible alien is eligible for E visa classification if “entitled to enter the United States under and in pursuance of the provisions of a treaty of commerce and navigation between the United States and the foreign state of which he is a national[.]” The existence of a qualifying treaty or authorizing legislation is therefore a threshold requirement for the issuance of an E visa or for obtaining such status.

On October 3, 2018, the U.S. Department of State notified Iran of the termination of the Treaty of Amity. Subsequently, on October 23, 2019, the U.S. Department of State provided DHS with formal notice of the termination of the treaty. There are no other qualifying treaties with Iran currently in force or other Iran-specific bases for granting or extending E-1 or E-2 status to Iranian nationals. Accordingly, a national of Iran is no longer eligible for an extension of stay in E-1 or E-2 status or a change of status to E-1 or E-2 on the basis of the Treaty of Amity. Aliens who are currently in valid E-1 or E-2 status on the basis of the Treaty of Amity, including their family members who are also in valid E status, will be required to depart from the United States upon expiration of their authorized period of stay in the United States, unless otherwise authorized to remain in the United States (e.g., pursuant to a change of status to another nonimmigrant status or adjustment of status to lawful permanent residence).

USCIS will issue Notices of Intent to Deny (NOIDs) to the affected applicants who have pending applications for extensions of stay in, or changes of status to, E-1 or E-2 status on the basis of the Treaty of Amity. Through the issuance of NOIDs, affected applicants will be notified of the effect of the treaty termination and given an opportunity to respond. If the grounds for issuance of the NOID are not overcome, USCIS will proceed to deny the application.

The changes described in this notice do not prevent Iranian nationals and their dependents from seeking admission in, or applying for a grant of, another nonimmigrant visa classification for which they believe they can establish eligibility under U.S. immigration law.

Mark Koumans,
Deputy Director, U.S. Citizenship and Immigration Services.

[FR Doc. 2020-01110 Filed 1-22-20; 8:45 am]

BILLING CODE 9111-97-P